DEPARTMENT OF COMMERCE

National Oceanic and Atmospheric Administration

Evaluation of State Coastal Management Program; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold a public meeting to solicit comments on the performance evaluation of the Connecticut Coastal Management Program.

DATES: NOAA will consider all written comments received by Friday, September 30, 2022. A public meeting will be held on Wednesday, September 21, 2022, at 6:30 p.m. Eastern Time (ET).

ADDRESSES: Comments may be submitted by one of the following methods:

Email: Ralph Cantral, Evaluator, NOAA Office for Coastal Management, at Ralph.Cantral@noaa.gov.

Written comments received are considered part of the public record, and the entirety of the comment, including the email address, attachments, and other supporting materials, will be publicly accessible. Sensitive personal information, such as account numbers, Social Security numbers, or names of individuals, should not be included with the comment. Comments that are not responsive or that contain profanity, vulgarity, threats, or other inappropriate language will not be considered.

Public Meeting: Provide oral comments during the public meeting on Wednesday, September 21, 2022, at 6:30 p.m. ET at the Meigs Point Nature Center meeting room at Hammonasset Beach State Park, 1288 Boston Point Road, Madison, Connecticut 06443.

FOR FURTHER INFORMATION CONTACT: Ralph Cantral, Evaluator, NOAA Office for Coastal Management, by email at Ralph.Cantral@noaa.gov or by phone at (843) 474-357. Copies of the previous evaluation findings and 2016-2020 Assessment and Strategies may be viewed and downloaded on the internet at http://coast.noaa.gov/czm/evaluations/. A copy of the evaluation notification letter and most recent progress report may be obtained upon request by contacting Ralph Cantral.

SUPPLEMENTARY INFORMATION: Section 312 of the Coastal Zone Management Act (CZMA) requires NOAA to conduct periodic evaluations of federally approved coastal management programs and national estuarine research reserves. The evaluation process includes holding one or more public meetings, considering written public comments, and consulting with interested Federal, State, and local agencies and members of the public. During the evaluation, NOAA will consider the extent to which the State of Connecticut has met the national objectives, adhered to the management program approved by the Secretary of Commerce, and adhered to the terms of financial assistance under the CZMA. When the evaluation is complete, NOAA's Office for Coastal Management will place a notice in the Federal Register announcing the availability of the Final Evaluation Findings.

Keelin S. Kuipers,
Deputy Director, Office for Coastal Management, National Ocean Service, National Oceanic and Atmospheric Administration.

[FR Doc. 2022-16866 Filed 8-4-22; 8:45 am]

BILLING CODE 3510-JE-P